DEPARTMENT OF LABOR

Employment and Training Administration

[TA-W-54,595]

Crawford Knitting Company, Inc. Ramseur, NC; Notice of Termination of Investigation

Pursuant to Section 221 of the Trade Act of 1974, an investigation was initiated on March 26, 2004 in response to a worker petition which was filed by a company official on behalf of workers at Crawford Knitting Company, Inc., Ramseur, North Carolina (TA-W-54,595).

The petitioners have requested that the petition be withdrawn. Consequently, further investigation in this case would serve no purpose, and the investigation has been terminated.

Signed in Washington, DC this 11th day of May 2004.
Linda G. Poole,
Certifying Officer, Division of Trade Adjustment Assistance.

[FR Doc. 04-12874 Filed 6-7-04; 8:45 am]

BILLING CODE 4510-30-P